ENVIRONMENTAL PROTECTION AGENCY

40 CFR Part 52

[VA084/101-5045a; FRL-6726-4]

Approval and Promulgation of Air Quality Implementation Plans; Virginia; Revised Format for Materials Being Incorporated by Reference; Approval of Recodification of the Virginia Administrative Code; Correction

AGENCY: Environmental Protection Agency (EPA).

ACTION: Direct final rule; correcting amendments.

SUMMARY: This document corrects errors in the rule language of a final rule pertaining to EPA's approval of a recodification of and associated administrative revisions to Virginia's air pollution control regulations. This recodification reorganized and renumbered the Virginia SIP to match the numbering system set forth in the Virginia Administrative Code. In this same action, we also revised the format of 40 CFR part 52 for materials submitted by Virginia that are incorporated by reference (IBR) into the Virginia State implementation plan (SIPs).

EFFECTIVE DATE: July 6, 2000.

FOR FURTHER INFORMATION CONTACT: Harold A. Frankford (215) 814-2108 or by e-mail at frankford.harold@pa.gov.

SUPPLEMENTARY INFORMATION: Throughout this document, wherever “we” or “our” are used, we mean EPA. On April 21, 2000 (65 FR 21315), we published a final rulemaking action announcing our approval of the revised reorganization of the Virginia Administrative Code (VAC), including reorganization of the air pollution control regulations. The intent of the rule was to approve the revised regulatory structure of Virginia's air pollution control regulations, and to list, in chart form, those Virginia regulatory provisions which had been incorporated by reference into the Virginia SIP.

In this document, we discovered incorrect information and omissions related to entries appearing in the summary rulemaking charts published on pages 21322, 21342, and 21346. In one case, we did not clearly delineate the provisions in Virginia's compliance testing requirements (9 VAC 5-40-20) which we had historically approved, and thus incorporated by reference, as part of the Virginia SIP. In the other case, we omitted the listing of eight other Virginia air pollution control rules (either in the 9 VAC 5 or “VR” format) which EPA had incorporated by reference in past rulemaking actions into the SIP. In this action, we are publishing those entries in 40 CFR 52.2420(c) which contained incorrect information or were inadvertently omitted from the document.

At the same time, we had intended to revise the citation of Virginia's compliance testing provision which we had historically disapproved and codified at 40 CFR 52.2423(f) so that it reflects the current 9 VAC 5 citation. This action revises § 52.2423(f) to reflect the correct citation. Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Administrative Requirements

Under Executive Order 12866 (58 FR 51735, October 4, 1993), this action is not a “significant regulatory action” and is therefore not subject to review by the Office of Management and Budget. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of July 6, 2000. EPA will submit a report containing this rule and other required information to the U.S. Senate, the U.S. House of Representatives, and the Comptroller General of the United States prior to publication of the rule in the Federal Register. The corrections to 40 CFR 52.2420(c) and 52.2423(f) for Virginia are not “major rules” as defined by 5 U.S.C. 804(2).

List of Subjects in 40 CFR Part 52

Environmental protection, Air pollution control, Carbon monoxide, Hydrocarbons, Incorporation by reference, Intergovernmental relations, Nitrogen dioxide, Ozone, Particulate matter, Reporting and recordkeeping requirements, Sulfur oxides.

Dated: June 19, 2000.
Bradley M. Campbell,
Regional Administrator, EPA Region III.

40 CFR part 52 is amended as follows:

PART 52—[AMENDED]

1. The authority citation for part 52 continues to read as follows:

Authority: 42 U.S.C. 7401 et seq.

Subpart VV—Virginia

2. In § 52.2420, the table in paragraph (c) is amended by:

a. Revising entry “5-40-20” under Chapter 40, Part I.

b. Adding in numerical order entry “5-91-40” under Chapter 91, Part II.

c. Removing entry “5-480-20” and adding new entries in its place under 2 VAC 5, Chapter 480.

The revisions and additions read as follows:

§ 52.2420 Identification of plan.

* * * * *

(c) * * *

EPA-Approved Regulations in the Virginia SIP
State Citation (9 VAC 5) | Title/subject | State effective date | EPA approval date | Explanation [former SIP citation]
| * * * * * * *
Chapter 40 Existing Stationary Sources [Part IV]
Part I Special Provisions
* * * * * * *
5-40-20 (Except A.3) | Compliance | 4/17/95 | 4/21/00 65 FR 21315 | 120-04-02 (Except A.3).
* * * * * * *
Chapter 91 Regulations for the Control of Motor Vehicle Emissions in the Northern Virginia Area
* * * * * * *
Part II General Provisions
* * * * * * *
5-91-40 | Establishment of Regulations and Orders | 1/24/97 | 9/1/99 64 FR 47670
* * * * * * *
2 VAC 5 CHAPTER 480 Regulation Governing the Oxygenation of Gasoline
VR115-04-28, § 1 | Definitions | 11/1/93 | 4/15/94 39 FR 17942
5-480-20 | Applicability | 11/1/96 | 2/17/00 65 FR 8051 | SIP Effective Date: 4/3/00.
VR115-04-28, § 3 | Minimum oxygenate content | 11/1/93 | 4/15/94 39 FR 17942
VR115-04-28, § 4 | Nature of oxygenates | 11/1/93 | 4/15/94 39 FR 17942
VR115-04-28, § 5 | Record keeping and transfer requirements | 11/1/93 | 4/15/94 39 FR 17942
VR115-04-28, § 6 | Gasoline pump labeling | 11/1/93 | 4/15/94 39 FR 17942
VR115-04-28, § 7 | Sampling, testing and oxygen content calculations | 11/1/93 | 4/15/94 39 FR 17942
VR115-04-28, § 8 | Compliance and enforcement | 11/1/93 | 4/15/94 39 FR 17942

§ 52.2423 [Amended]

3. In § 52.2423(f), the citation “Section 120-04-02.A.3.” is revised to read “Section 9 VAC 5-40-20.A.3.”

[FR Doc. 00-16366 Filed 7-5-00; 8:45 am]

BILLING CODE 6560-50-P